DEPARTMENT OF THE INTERIOR

National Park Service

[NPS-WASO-NAGPRA-NPS0038744; PPWOCRADN0-PCU00RP14.R50000]

Notice of Intended Disposition: U.S. Army Garrison, Fort Leonard Wood, MO

AGENCY: National Park Service, Interior.

ACTION: Notice.

SUMMARY: In accordance with the Native American Graves Protection and Repatriation Act (NAGPRA), the U.S. Army Garrison Fort Leonard Wood intends to carry out the disposition of human remains and associated funerary objects removed from Federal or Tribal lands to the lineal descendants, Indian Tribe, or Native Hawaiian organization with priority for disposition in this notice.

DATES: Disposition of the human remains and cultural items in this notice may occur on or after October 21, 2024. If no claim for disposition is received by September 22, 2025, the human remains and cultural items in this notice will become unclaimed human remains or cultural items.

ADDRESSES: Stephanie Nutt, Archaeologist/Cultural Resources Manager, 8112 Nebraska Avenue, Building 11400, Fort Leonard Wood, MO 65473, telephone (573) 596-7607, email Stephanie.L.Nutt.civ@army.mil.

SUPPLEMENTARY INFORMATION: This notice is published as part of the National Park Service's administrative responsibilities under NAGPRA. The determinations in this notice are the sole responsibility of Fort Leonard Wood and additional information on the human remains or cultural items in this notice, including the results of consultation, can be found in the related records. The National Park Service is not responsible for the identifications in this notice.

Abstract of Information Available

Based on the information available, human remains representing, at least, three individuals have been reasonably identified. No associated funerary objects are present. The individuals were removed from Freeman Cave, site 23PU58, in Pulaski County, MO. The individuals were removed from disturbed deposits during archaeological excavation and evaluation of the site for listing on the National Register for Historic Places by the Public Service Archaeology Program at the University of Illinois at Urbana-Champaign between 1995 and 1997. The individuals were later identified during an analysis of the faunal remains. The site dates from the Middle Archaic (5000-2500 BC) to the Late Woodland (A.D. 450-950).

Based on the information available, human remains representing, at least, four individuals have been reasonably identified. No associated funerary objects are present. The individuals were removed from Saltpeter Cave, site 23PU209, in Pulaski County, MO. The individuals were removed during a geotechnical stabilization project and archaeological assessment performed by the Illinois State Museum on three cave sites on Fort Leonard Wood property in 1997. The individuals were later identified during an analysis of the faunal remains. The site dates from the Archaic (7800-700 BC) to Mississippian (A.D. 950-1600)

Based on the information available, human remains representing, at least, four individuals have been reasonably identified. No associated funerary objects are present. The individuals were removed from Joy Cave, site 23PU210, in Pulaski County, MO. The individuals were removed during a geotechnical stabilization and archaeological assessment project performed by the Illinois State Museum on three cave sites on Fort Leonard Wood property in 1997. The individuals were later identified during an analysis of the faunal remains. The site dates from the Early Archaic (7800-5000 BC) to Mississippian (A.D. 950-1600).

Based on the information available, human remains representing, at least, two individuals have been reasonably identified. No associated funerary objects are present. The individuals were removed from Davis Cave #1, 23PU211, in Pulaski County, MO. The individuals were removed during a geotechnical stabilization and archaeological assessment performed by the Illinois State Museum on three cave sites on Fort Leonard Wood property in 1997. The individuals were later identified during an analysis of the faunal remains. The site dates from the Early Archaic (7800-5000 BC) to Mississippian (A.D. 950-1600).

Based on the information available, human remains representing, at least, one individual has been reasonably identified. No associated funerary objects are present. The individuals were removed from Martin Cave B, site 23PU217, in Pulaski County, MO. The individuals were removed as part of the Cultural and Biological Cave Survey Project conducted by the Illinois State Museum Society on Fort Leonard Wood property in 2002. The site dates from the Middle Woodland (200 BC-A.D. 450) to Late Woodland (A.D. 450-950).

Based on the information available, human remains representing, at least, four individuals have been reasonably identified. The 517 funerary objects are 511 mussel shell, four debitage, and two faunal bone fragments. The individuals and associated funerary objects were removed from Martin Cave, site 23PU218, in Pulaski County, MO. The individuals and associated funerary objects were removed as part of an evaluation of Martin Cave for the National Register of Historic Places between 2002 and 2003 by the Illinois State Museum on Fort Leonard Wood property. The site dates from the Middle Woodland (200 BC-A.D. 450) to the Late Woodland (A.D. 450-950).

Based on the information available, human remains representing, at least, seven individuals have been reasonably identified. The 23 funerary objects include eight grayish chert bifaces, one grayish and white chert drill, one gray banded chert scraper, two chipped stones, six antler tool fragments, one antler awl, one bone awl, one mano, one soil sample, and one faunal fragment. The individuals and associated funerary objects were removed from Sadie's Cave, site 23PU235, in Pulaski County, MO. The individuals and associated funerary objects were removed during a research oriented archaeological excavation and site evaluation by the University of Illinois at Urbana-Champaign on Fort Leonard Wood property. The site dates from the Early Archaic (7800-5000 BC) to the Middle Woodland (200 BC-A.D. 450), however human remains were removed from strata assigned to the Archaic.

Based on the information available, human remains representing, at least, two individuals have been reasonably identified. No funerary objects are associated. The individuals were removed from Red Oak Shelter, site 23PU264, in Pulaski County, MO. The individuals were removed by Brockington and Associates, Inc. in 1997. The individuals were identified later during an analysis of the faunal remains. The site dates from the Early Archaic (7800-5000 BC) to the Late Woodland (A.D. 450-950).

Based on the information available, human remains representing, at least, one individual have been reasonably identified. No funerary objects are associated. The individual was removed from Turnbull Shelter, site 23PU283, in Pulaski County, MO. The individual was removed in 2002 as part of Phase II testing for eligibility for the National Register for Historic Places by the Illinois State Museum Society. The individual was identified later during an analysis of the faunal remains. The site dates to the Late Woodland (A.D. 450-950).

Based on the information available, human remains representing, at least, one individual has been reasonably identified. No funerary objects are associated. The individual was removed from site 23PU291 in Pulaski County, MO. The individual was removed between 1992 and 1993 by the Public Service Archaeology Program of the University of Illinois at Urbana-Champaign during Phase II archaeological excavation on Fort Leonard Wood property. The site dates from the Middle Woodland (200 BC-A.D. 450) to the Late Woodland (A.D. 450-950).

Based on the information available, human remains representing, at least, one individual has been reasonably identified. No funerary objects are associated. The individual was removed from site 23PU421 in Pulaski County, MO. The individual was removed in 1995 by the Public Service Archaeology Program of the University of Illinois at Urbana-Champaign. The site dates to the Late Woodland (A.D. 450-950).

Based on the information available, human remains representing, at least, four individuals have been reasonably identified. The 40,501 funerary objects include 9,606 debitage, 109 utilized debitage, 112 bifaces, 51 hafted bifaces, two axes, 34 cores, 12 uniface tools, one drill, one hammerstone, 30 hematite, 41 unmodified stones, one lithic tool, 142 body sherds, five rim sherds, one lot of body sherds, two lots of shell, 70 shell fragments, four lots of animal bone, 30,242 animal bone fragments, five soil samples, six floatation samples, two ochre, one lot of charcoal, two lots of seeds/nutshells, five misc. metal, eight glass fragments, five pieces of modern wood, and one shoe string. The individuals and associated funerary objects were removed from Little Freeman Cave, site 23PU565 in Pulaski County, MO. The individuals and associated funerary objects were removed from disturbed and intact contexts during Phase II archaeological eligibility evaluations for the National Register of Historic Places. The site dates from generalized Prehistoric (Disturbed contexts) and Middle Archaic (5000-2500 BC) to the Late Archaic (2500-700 BC).

Based on the available information, human remains representing, at least, two individuals have been reasonably identified. No associated funerary objects are present. The individuals were removed from Lohraff Shelter 2, site 23PU719, in Pulaski County, MO. The individuals were removed in 1997 by the Illinois State Museum during a Phase II archaeological excavation and evaluation for the National Register of Historic Places on Fort Leonard Wood property. The site dates to the Late Woodland (A.D. 450-950).

Determinations

Fort Leonard Wood has determined that:

• The human remains described in this notice represent the physical remains of 36 individuals of Native American ancestry.

• The 41,041 objects described in this notice are reasonably believed to have been placed intentionally with or near individual human remains at the time of death or later as part of the death rite or ceremony.

• The Osage Nation has priority for disposition of the human remains and cultural items described in this notice.

Claims for Disposition

Written claims for disposition of the human remains and cultural items in this notice must be sent to the appropriate official identified in this notice under ADDRESSES. If no claim for disposition is received by September 22, 2025, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after October 21, 2024. If competing claims for disposition are received, Fort Leonard Wood must determine the most appropriate claimant prior to disposition. Requests for joint disposition of the human remains and cultural items are considered a single request and not competing requests. Fort Leonard Wood is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: September 12, 2024.
Melanie O'Brien,
Manager, National NAGPRA Program.

[FR Doc. 2024-21544 Filed 9-19-24; 8:45 am]

BILLING CODE 4312-52-P